ENVIRONMENTAL PROTECTION AGENCY

[OPP-2002-0107; FRL-6799-3]

Minor Changes to OPPTS Harmonized Test Guidelines, Series 830 Product Properties; Notice of Availability

AGENCY: Environmental Protection Agency (EPA).

ACTION: Notice of availability.

SUMMARY: EPA has established a unified library for test guidelines issued by the Office of Prevention, Pesticides and Toxic Substances (OPPTS) for use in testing chemical substances to develop data for submission to EPA under the Toxic Substances Control Act (TSCA), the Federal Food, Drug, and Cosmetic Act (FFDCA), or the Federal Insecticide, Fungicide, and Rodenticide Act (FIFRA). The Agency is announcing minor changes to the Series 830—Product Properties Test Guidelines of these OPPTS harmonized test guidelines. The availability of final guidelines in this series was announced in the Federal Register on August 28, 1996 (61 FR 44308) (FRL-5390-7) and minor editorial revisions were announced in the Federal Register on March 18, 1998 (63 FR 13254) (FRL-5761-6). The Agency periodically announces in the Federal Register the availability of new and changed test guidelines.

FOR FURTHER INFORMATION CONTACT: For general information contact:

TSCA information contact: TSCA Hotline at TAIS/7408, Environmental Protection Agency, 1200 Pennsylvania Ave., NW., Washington, DC 20460; telephone number: (202) 554-1404; e-mail address: TSCA-Hotline@epa.gov.

FIFRA information contact: Communications Services Branch, Field and External Affairs Division, Office of Pesticide Programs (7506C), Environmental Protection Agency, 1200 Pennsylvania Ave., NW., Washington, DC 20460; telephone number: (703) 305-5017; fax number: (703) 305-5558.

For technical information contact: Harold Podall, Office of Pesticide Programs, Registration Division (7505C), Environmental Protection Agency, 1200 Pennsylvania Ave., NW., Washington, DC 20460; telephone number: (703) 308-9373; e-mail address: podall.harold@epa.gov.

SUPPLEMENTARY INFORMATION:

I. Does this Action Apply to Me?

This action is directed to the public in general. Although this action may be of particular interest to those persons who are or may be required to conduct testing of chemical substances under TSCA, FFDCA, or FIFRA, the Agency has not attempted to describe all the specific entities that may be affected by this action. If you have any questions regarding the applicability of this action to a particular entity, consult the technical person listed under FOR FURTHER INFORMATION CONTACT.

II. How Can I Get Additional Information, Including Copies of this Document or Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/. You may also obtain electronic copies of the OPPTS harmonized test guidelines from the EPA Internet Home Page at http://www.epa.gov/opptsfrs/home/guidelin.htm.

III. What Action is EPA Taking?

EPA is announcing minor changes to the following Series 830 OPPTS harmonized test guidelines. These changes are minor or editorial in nature and do not amend the existing requirements under FIFRA or the TSCA section 4 test rules. Explicit test requirements for registration are set out in 40 CFR parts 158 and 796 and the test guidelines contain standards for and examples of acceptable testing.

1. OPPTS 830.6317 Storage stability. Paragraphs (b)(2)(ii) and (b)(2)(iii) addressing frequency at which chemical analysis for the concentration(s) of the active ingredient(s) is conducted over the 1 year test duration have been changed to include an analysis at the 9-month point. This change will enable better definition of the slope of the degradation curve and permit improved extrapolation of the degradation curve past the 12-month point. Additionally, the change provides guidance for frequency of testing for storage stability studies continued beyond 1 year. The final guideline was reviewed by the FIFRA Scientific Advisory Panel (SAP) at its September 27, 1995 meeting and the revised guideline contains no new scientific issues that the Agency believes warrant review by the SAP.

2. OPPTS 830.7300 Density/relative density/bulk density. Paragraph (c), Test procedures, has been changed to correct a typographical error in a citation by replacing the words “ASTM D-727” with “ASTM D-729.” This is a minor editorial change.

IV. Are there Any Applicable Voluntary Consensus Standards that EPA Should Consider?

This notice of availability does not involve a proposed regulatory action that would require the Agency to consider voluntary consensus standards pursuant to section 12(d) of the National Technology Transfer and Advancement Act of 1995 (NTTAA), Public Law 104-113, section 12(d) (15 U.S.C. 272 note). Section 12(d) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA requires EPA to provide an explanation to Congress, through Office of Management and Budget (OMB), when the Agency decides not to use available and applicable voluntary consensus standards when the NTTAA directs the Agency to do so.

List of Subjects

Environmental protection, Chemical testing, Test guideline.

Dated: May 30, 2002.
Stephen L. Johnson,
Assistant Administrator for Prevention, Pesticides and Toxic Substances.

[FR Doc. 02-14637 Filed 6-10-02; 8:45 am]

BILLING CODE 6560-50-S